DEPARTMENT OF THE INTERIOR

National Park Service

[NPS-WASO-NAGPRA-NPS0038198; PPWOCRADN0-PCU00RP14.R50000]

Notice of Intended Repatriation: Stanford University, Stanford, CA

AGENCY: National Park Service, Interior.

ACTION: Notice.

SUMMARY: In accordance with the Native American Graves Protection and Repatriation Act (NAGPRA), Stanford University intends to repatriate certain cultural items that meet the definition of objects of cultural patrimony and that have a cultural affiliation with the Indian Tribes or Native Hawaiian organizations in this notice. These items were removed from Riverside County, CA.

DATES: Repatriation of the cultural items in this notice may occur on or after July 31, 2024.

ADDRESSES: Laura Jones, Repatriation Officer, Stanford University, 477 Oak Road, Stanford, CA 94305, telephone (650) 723-9664, email ljones@stanford.edu.

SUPPLEMENTARY INFORMATION: This notice is published as part of the National Park Service's administrative responsibilities under NAGPRA. The determinations in this notice are the sole responsibility of Stanford University, and additional information on the determinations in this notice, including the results of consultation, can be found in the summary or related records. The National Park Service is not responsible for the determinations in this notice.

Abstract of Information Available

A total of four cultural items have been requested for repatriation. The four objects of cultural patrimony are baskets removed from the vicinity of Temecula in Riverside County, CA, during the first half of the Twentieth Century.

Basket 1996.245 was acquired by Evelyn and Franklyn Clerk at an unknown date and transferred by gift to the Cantor Center for the Visual Arts at Stanford University in 1996.

Basket 1996.246 was acquired by Evelyn and Franklyn Clerk at an unknown date after 1930 and transferred by gift to the Cantor Center for the Visual Arts at Stanford University in 1996. Note with the basket lists “Temecula” as the source.

Basket 1939.268 was acquired by Frona Wait Colburn (also known as Mrs. Fredrick Henry Colburn) between 1899 and 1939. Ms. Colburn transferred a portion of her large collection of West Coast baskets to the Stanford Museum (now the Cantor Center for the Visual Arts at Stanford) in 1939.

Basket 1984.114 was acquired by Stanford faculty member Virgil Whitaker at an unknown date, likely between 1930 and 1945. Professor Whitaker donated the basket to the Stanford Museum in 1984.

Determinations

Stanford University has determined that:

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pechanga Band of Indians (previously listed as Pechanga Band of Luiseno Mission Indians of the Pechanga Reservation, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 31, 2024. If competing requests for repatriation are received, Stanford University must determine the most appropriate requestor prior to repatriation. Requests for joint repatriation of the cultural items are considered a single request and not competing requests. Stanford University is responsible for sending a copy of this notice to the Indian Tribes and Native Hawaiian organizations identified in this notice and to any other consulting parties.

Authority: Native American Graves Protection and Repatriation Act, 25 U.S.C. 3004 and the implementing regulations, 43 CFR 10.9.

Dated: June 24, 2024.
Melanie O'Brien,
Manager, National NAGPRA Program.

[FR Doc. 2024-14464 Filed 6-28-24; 8:45 am]

BILLING CODE 4312-52-P